Title 3—

The President

Executive Order 13864 of March 21, 2019

Improving Free Inquiry, Transparency, and Accountability at Colleges and Universities

By the authority vested in me as President by the Constitution and the laws of the United States of America, it is hereby ordered as follows:

Section 1. Purpose. The purpose of this order is to enhance the quality of postsecondary education by making it more affordable, more transparent, and more accountable. Institutions of higher education (institutions) should be accountable both for student outcomes and for student life on campus.

In particular, my Administration seeks to promote free and open debate on college and university campuses. Free inquiry is an essential feature of our Nation's democracy, and it promotes learning, scientific discovery, and economic prosperity. We must encourage institutions to appropriately account for this bedrock principle in their administration of student life and to avoid creating environments that stifle competing perspectives, thereby potentially impeding beneficial research and undermining learning.

The financial burden of higher education on students and their families is also a national problem that needs immediate attention. Over the past 30 years, college tuition and fees have grown at more than twice the rate of the Consumer Price Index. Rising student loan debt, coupled with low repayment rates, threatens the financial health of both individuals and families as well as of Federal student loan programs. In addition, too many programs of study fail to prepare students for success in today's job market.

The Federal Government can take meaningful steps to address these problems. Selecting an institution and course of study are important decisions for prospective students and significantly affect long-term earnings. Institutions should be transparent about the average earnings and loan repayment rates of former students who received Federal student aid. Additionally, the Federal Government should make this information readily accessible to the public and to prospective students and their families, in particular.

This order will promote greater access to critical information regarding the prices and outcomes of postsecondary education, thereby furthering the goals of the National Council for the American Worker established by Executive Order 13845 of July 19, 2018 (Establishing the President's National Council for the American Worker). Increased information disclosure will help ensure that individuals make educational choices suited to their needs, interests, and circumstances. Access to this information will also increase institutional accountability and encourage institutions to take into account likely future earnings when establishing the cost of their educational programs.

Sec. 2. Policy. It is the policy of the Federal Government to:

(a) encourage institutions to foster environments that promote open, intellectually engaging, and diverse debate, including through compliance with the First Amendment for public institutions and compliance with stated institutional policies regarding freedom of speech for private institutions;

(b) help students (including workers seeking additional training) and their families understand, through better data and career counseling, that not all institutions, degrees, or fields of study provide similar returns on their investment, and consider that their educational decisions should account for the opportunity cost of enrolling in a program;

(c) align the incentives of institutions with those of students and taxpayers to ensure that institutions share the financial risk associated with Federal student loan programs;

(d) help borrowers avoid defaulting on their Federal student loans by educating them about risks, repayment obligations, and repayment options; and

(e) supplement efforts by States and institutions by disseminating information to assist students in completing their degrees faster and at lower cost.

Sec. 3. Improving Free Inquiry on Campus. (a) To advance the policy described in subsection 2(a) of this order, the heads of covered agencies shall, in coordination with the Director of the Office of Management and Budget, take appropriate steps, in a manner consistent with applicable law, including the First Amendment, to ensure institutions that receive Federal research or education grants promote free inquiry, including through compliance with all applicable Federal laws, regulations, and policies.

(b) “Covered agencies” for purposes of this section are the Departments of Defense, the Interior, Agriculture, Commerce, Labor, Health and Human Services, Transportation, Energy, and Education; the Environmental Protection Agency; the National Science Foundation; and the National Aeronautics and Space Administration.

(c) “Federal research or education grants” for purposes of this section include all funding provided by a covered agency directly to an institution but do not include funding associated with Federal student aid programs that cover tuition, fees, or stipends.

Sec. 4. Improving Transparency and Accountability on Campus. (a) To advance the policy described in subsections 2(b)-(e) of this order, the Secretary of Education (Secretary) shall, to the extent consistent with applicable law:

(i) make available, by January 1, 2020, through the Office of Federal Student Aid, a secure and confidential website and mobile application that informs Federal student loan borrowers of how much they owe, how much their monthly payment will be when they enter repayment, available repayment options, how long each repayment option will take, and how to enroll in the repayment option that best serves their needs;

(ii) expand and update annually the College Scorecard, or any successor, with the following program-level data for each certificate, degree, graduate, and professional program, for former students who received Federal student aid:

(A) estimated median earnings;

(B) median Stafford loan debt;

(C) median Graduate PLUS loan debt (if applicable);

(D) median Parent PLUS loan debt; and

(E) student loan default rate and repayment rate; and

(iii) expand and update annually the College Scorecard, or any successor, with the following institution-level data, providing the aggregate for all certificate, degree, graduate, and professional programs, for former students who received Federal student aid:

(A) student loan default rate and repayment rate;

(B) Graduate PLUS default rate and repayment rate; and

(C) Parent PLUS default rate and repayment rate.

(b) For the purpose of implementing subsection (a)(ii) of this section, the Secretary of the Treasury shall, upon the request of the Secretary, provide in a timely manner appropriate statistical studies and compilations regarding program-level earnings, consistent with section 6108(b) of title 26, United States Code, other applicable laws, and available data regarding programs attended by former students who received Federal student aid.

Sec. 5. Reporting Requirements. (a) By January 1, 2020, the Secretary, in consultation with the Secretary of the Treasury, the Director of the Office of Management and Budget, and the Chairman of the Council of Economic Advisers, shall submit to the President, through the Assistant to the President for Domestic Policy and the Assistant to the President for Economic Policy, a report identifying and analyzing policy options for sharing the risk associated with Federal student loan debt among the Federal Government, institutions, and other entities.

(b) By January 1, 2020, the Secretary, in consultation with the Secretary of the Treasury, shall submit to the President, through the Assistant to the President for Domestic Policy and the Assistant to the President for Economic Policy, policy recommendations for reforming the collections process for Federal student loans in default.

(c) Beginning July 1, 2019, the Secretary shall provide an annual update on the Secretary's progress in implementing the policies set forth in subsections 2(b)-(e) of this order to the National Council for the American Worker at meetings of the Council.

(d) Within 1 year of the date of this order, the Secretary shall compile information about successful State and institutional efforts to promote students' timely and affordable completion of a postsecondary program of study. Based on that information, the Secretary shall publish a compilation of research results that addresses:

(i) how some States and institutions have better facilitated successful transfer of credits and degree completion by transfer students;

(ii) how States and institutions can increase access to dual enrollment programs; and

(iii) other strategies for increasing student success, especially among students at high risk of not completing a postsecondary program of study.

Sec. 6. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

March 21, 2019.

[FR Doc. 2019-05934

Filed 3-25-19; 11:15 am]

Billing code 3295-F9-P